DEPARTMENT OF THE INTERIOR

Bureau of Indian Affairs

[190A2100DD/AAKC001030/A0A501010.999900 253G]

Comanche Nation; Amendment to Liquor Control Ordinance

AGENCY: Bureau of Indian Affairs, Interior.

ACTION: Notice.

SUMMARY: This notice publishes the amendment to the Comanche Indian Tribe Liquor Control Ordinance. The liquor control ordinance regulates and controls the possession, sale, manufacture, and distribution of alcohol on Comanche trust lands in conformity with the laws of the State of Oklahoma where applicable and necessary. The amendment does not become effective until published in the Federal Register.

DATES: This ordinance shall become effective on July 19, 2019.

FOR FURTHER INFORMATION CONTACT: Ms. Sherry Lovin, Tribal Government Officer, Southern Plains Regional Office, Bureau of Indian Affairs, Post Box 368, Anadarko, Oklahoma 73005, telephone: (405) 247-1534 or (405) 247-6673, fax: (405) 247-1534; or Ms. Laurel Iron Cloud, Chief, Division of Tribal Government Services, Office of Indian Services, Bureau of Indian Affairs, 1849 C Street NW, MS-4513-MIB, Washington, DC 20240, telephone: (202) 513-7641.

SUPPLEMENTARY INFORMATION: Pursuant to the Act of August 15, 1953, Public Law 83-277, 67 Stat. 5886, 18 U.S.C. 1161, as interpreted by the Supreme Court in Rice v. Rehner, 463 U.S. 713 (1983), the Secretary of the Interior shall certify and publish in the Federal Register notice of adopted liquor control ordinances for the purpose of regulating liquor transactions in Indian country. On April 7, 2001, the Comanche Business Committee duly adopted the Comanche Indian Tribe Liquor Control Ordinance. The Comanche Tribe Liquor Control Ordinance was published in the Federal Register on October 25, 2001 at 66 FR 54022.

This notice is published in accordance with the delegated authority by the Secretary of the Interior to the Assistant Secretary—Indian Affairs. I certify that the Comanche Nation Business Committee duly adopted the amendment to the Comanche Tribe Liquor Control Ordinance by Resolution 89-18 on May 17, 2018.

Dated: May 17, 2019.
Tara Sweeney,
Assistant Secretary—Indian Affairs.

The Comanche Indian Tribe Liquor Control Ordinance, Article VII. Taxes, Section (1), as amended, shall read as follows:

Article VII, Taxes, Section (1)

Section (1) Tax. There is hereby levied and shall be collected a tax on each wholesale and retail sale of Alcohol Beverages on Tribal land in the amount of one percent (1%) of the retail sales and an additional (5%) on-Premise Poured Liquor Tax, respectively, to be added to the wholesale and retail sales price. All taxes from the sale of such Alcohol Beverages shall be paid into a separate account under exclusive authority of the Tax Commission. This tax may be adjusted as requested by the Tax Commission and approved by the Business Committee.

[FR Doc. 2019-12942 Filed 6-18-19; 8:45 am]

BILLING CODE 4337-15-P